DEPARTMENT OF THE INTERIOR

National Park Service

Golden Gate National Recreation Area Fire Management Plan, Marin, San Francisco, San Mateo Counties, CA; Notice of Intent To Prepare an Environmental Impact Statement

SUMMARY: Notice is hereby given, in accordance with the provisions of the National Environmental Policy Act (42 U.S.C. 4321 et seq.) that the National Park Service (NPS) is undertaking a conservation planning and impact analysis process for a fire management plan for Golden Gate National Recreation Area (GGNRA) and Muir Woods National Monument and Fort Point National Historic Site, two units of the National Park system also under the administration of GGNRA. The purpose of the fire management plan and environmental impact statement (EIS) process is to develop and assess alternative strategies for reducing risks to the public, firefighters, sensitive resources and park facilities posed by unplanned and uncontrolled wildland ignitions and examine the opportunities to use fire as a tool to work towards achieving resource protection objectives. Notice is hereby given that a public scoping process has been initiated with the purpose of eliciting early public comment regarding issues and concerns, a suitable range of alternatives and appropriate mitigating measures, and the nature and extent of potential environmental impacts that should be addressed in the EIS.

Background: The current GGNRA fire management plan (FMP) was adopted in 1993 following a NEPA assessment process that culminated in the NPS approving a Finding of No Significant Impact decision (September 30, 1993). Since that time, a wide spectrum of new issues, improved information, and unforeseeable constraints have emerged which have the potential to affect the future direction of the fire management program within the park. Some of these factors include the continued decline in ecosystem health due to the absence of fire, increased risk of damage to sensitive natural and cultural resources as well as adjacent developed communities, increased suppression costs, and more stringent air quality regulations.

The new FMP will tier from the 1980 GGNRA General Management Plan which called for a park-wide vegetation management planning effort to examine major influences (including fire effects) on the health of native plant communities. Subsequently park boundaries have expanded, and as noted environmental conditions have changed. More recently, major revisions of NPS policy guidance for fire management activities have occurred (Director's Order 18 was re-issued in 2002), and the need for conformance with new Management Policies (2001), have substantially increased the necessary scope of the FMP planning process. As a result, the proposed FMP will supersede the current fire program, rather than update or supplement the 1993 FMP.

Scope of Planning and Analysis: The jurisdictional area of GGNRA covers 75,389 acres in San Mateo, San Francisco and Marin counties. Of the total acreage, 31,100 acres are directly managed by GGNRA in the three park units B GGNRA, Muir Woods National Monument and Fort Point National Historic Site. The northern lands of GGNRA, comprising 18,000 acres on Bolinas Ridge, east of Highway One in Marin County, are managed by the Point Reyes National Seashore under an agreement between the two park units. These northern lands are part of the conservation planning area for the Point Reyes National Seashore FMP currently in preparation. The Point Reyes environmental impact analysis process is in advance of the GGNRA effort, and the two parks will coordinate closely so as to develop a complementary strategy for fire management activities that meets each park's objectives.

In addition to lands under the direct management of the NPS, the scope of the pending EIS analysis and the affected area to be addressed in GGNRA FMP will include lands within the park's jurisdictional boundary that be acquired for NPS management during the implementation period of the FMP. However, the interior portion of the Presidio of San Francisco (managed by the federal corporation known as Presidio Trust,) is not under the direct management of the NPS and is not included in the planning area. Some of the existing park sites to be addressed in the EIS process are the coastal portion of the Presidio of San Francisco (Area A), Stinson Beach, Tennessee Valley, Muir Beach, the Marin Headlands, Alcatraz Island, Fort Mason, the coastal areas of the Presidio of San Francisco, Ocean Beach, Fort Funston, Milagra Ridge, Sweeney Ridge, and the Phleger Estate.

Naturally occurring fire is an important ecological process necessary for maintaining the native plant communities of the park, but wildfire poses a hazard to life and property in the park's urban-wildland interface boundary area and developed sites within the park. GGNRA practice has been to aggressively suppress all wildland fire in the park whether naturally occurring or human-caused. To that end, GGNRA has conducted fire management projects to control fuel buildup in the last decade, reviewing each project individually for conformance with federal environmental regulations. The park has employed prescribed burning and mechanical fuel reduction to reduce hazardous fuels and to enhance natural and cultural resources.

NPS management policies adopted in December 2000 requires each park with burnable vegetation to prepare a fire management plan. The purpose of the FMP will be to guide a fire management program that protects park values and its cultural and natural resources; provides for safety considerations for park visitors, employees, neighbors, and developed facilities; and addresses potential impacts to public and private property adjacent to the park. Guided by the range of issues raised and alternative concepts identified in the scoping period, the draft EIS likely will assess potential impacts of several alternative fire management plan strategies. Issues could include, but may not be limited to: hazards to firefighters, the public and property; effects on native plant and animal species; impacts to rare and endangered species; adverse impacts to cultural resources; risk of fire spread across the wildland-urban interface; increased use of mechanical and manual vegetation management techniques; air and water quality impacts; and effects on park visitors and neighbors.

Supplementary Information and Public Scoping: As described above, the NPS is undertaking a conservation planning and environmental impact analysis effort to identify issues and concerns which should be addressed in the future fire management program, to evaluate alternative concepts for fire management, and to obtain information regarding potential impacts and appropriate mitigation strategies which should be addressed in the EIS process.

As an early step in this undertaking, public scoping meetings will be conducted in the summer and early fall of 2003 in both San Mateo and Marin counties. The San Mateo County meeting will be held in conjunction with the regularly scheduled bi-monthly GGNRA public meeting on September 16, 2003. The meeting will be held at the Pacifica City Council Chambers, 2212 Beach Boulevard, Pacifica, California. An open-house to provide information and solicit input from the public will be conducted from 6-7 p.m. The EIS FMP will also be agendized during the bi-monthly meeting (which begins at 7 p.m.). The Marin County meeting will be held September 24, 2003 from 7-9 p.m. at the U.S. Army Corps of Engineers San Francisco Bay Model Visitor's Center, 2100 Bridgeway, Sausalito, CA 94965. Information on these and all future public meetings, and status of the EIS process, will be regularly posted on the park's Web site at http://www.nps.gov/goga/fire; information will also be released through direct mailings and local and regional media. For those unable to attend either of these meetings, a scoping document will be available upon request. The main topics include: background information on the fire management program; a review of relevant policy and law affecting the fire management program; an assessment of current fire management needs; and the identification of issues and potential alternatives related to future fire management in the park.

All interested individuals, organizations, and agencies are encouraged to provide comments, suggestions, and relevant information. All written comments regarding the current and future fire management program must be postmarked or transmitted not later than 60 days following the date of publication of this notice in the Federal Register. Immediately upon determining this date it will be posted on the park's Web site. To request the scoping materials or to provide comments, please contact: Superintendent, Golden Gate National Recreation Area, Fort Mason, Building 201, San Francisco, CA 94123, Attn: Fire Management Plan. E-mail comments or requests for scoping materials and information on meeting locations may be transmitted electronically to GOGA_Public_Affairs@nps.gov (the subject line should indicate “EIS Scoping for FMP”).

Our practice is to make comments, including respondent names and home addresses, available for public review during regular business hours. If individuals submitting comments request that their name and/or address be withheld from public disclosure, it will be honored to the extent allowable by law. Such requests must be stated prominently at the beginning of the comments. There also may be circumstances wherein the NPS may withhold a respondent's identity as allowable by law. As always: NPS will make available to public inspection all submissions from organizations or businesses, and from individuals identifying themselves as representatives or officials of organizations or businesses; and, anonymous comments may not be considered.

Decision: Availability of the draft EIS and fire management plan for review and written comment will be announced in the Federal Register, as well as via direct mailing and announcements in local and regional media. At this time it's expected these documents will be available for public review in August 2004. Availability of the final EIS will be similarly announced (which at this time is expected to occur not sooner than January 2005). As a delegated EIS, the official responsible for the NEPA decision is the Regional Director, Pacific West Region, National Park Service. Subsequently, the official responsible for implementation would be the Superintendent, Golden Gate National Recreation Area.

Dated: July 25, 2003.
Arthur E. Eck,
Deputy Regional Director, Pacific West Region.

[FR Doc. 03-19962 Filed 8-5-03; 8:45 am]

BILLING CODE 4312-FN-P